LIBRARY OF CONGRESS

Copyright Royalty Board

[Docket No. 14-CRB-0010 CD (2013); [Docket No. 14-CRB-0011-SD (2013)]

Distribution of the 2013 Cable and Satellite Royalty Funds

AGENCY: Copyright Royalty Board, Library of Congress.

ACTION: Notice requesting comments.

SUMMARY: The Copyright Royalty Judges are requesting comments regarding whether controversies exist among claimants to the 2013 cable and satellite television retransmission royalty funds about how the funds should be distributed.

DATES: Comments are due on or before January 21, 2015.

ADDRESSES: This notice is also posted on the agency's Web site (www.loc.gov/crb). Submit electronic comments online via email to crb@loc.gov or online at http://www.regulations.gov. Those who chose not to submit comments electronically should see How to Submit Comments in the Supplementary Information section below for physical addresses and further instructions.

FOR FURTHER INFORMATION CONTACT: Lakeshia Keys, CRB Program Specialist, by telephone at (202) 707-7658, or by email at crb@loc.gov.

SUPPLEMENTARY INFORMATION: Each year cable systems and satellite carriers must submit royalty payments to the Register of Copyrights as required by the statutory licenses set forth in sections 111 and 119 of the Copyright Act for the retransmission to cable and satellite subscribers, respectively, of over-the-air television and radio broadcast signals. See 17 U.S.C. 111(d), 119(b). These royalties are then distributed to copyright owners whose works were included in a qualifying transmission and who timely filed claims for royalties. Allocation of the royalties collected occurs in one of two ways. In the first instance, these funds are distributed through a negotiated settlement among the parties. 17 U.S.C. 111(d)(4)(A), 119(b)(5)(A). If the claimants do not reach an agreement with respect to the royalties, the Copyright Royalty Judges (“Judges”) conduct a proceeding to determine the distribution of any royalties that remain in controversy. 17 U.S.C. 111(d)(4)(B), 119(b)(5)(B).

The Judges seek comment on the existence and extent of any controversies regarding distribution of the 2013 cable and satellite royalty funds.

How To Submit Comments

Interested members of the public must submit comments to only one of the following addresses. If not commenting by email or online, commenters must submit an original of their comments, five paper copies, and an electronic version on a CD.

Email: crb@loc.gov; or

Online: http://www.regulations.gov; or

U.S. mail: Copyright Royalty Board, P.O. Box 70977, Washington, DC 20024-0977; or

Overnight service (only USPS Express Mail is acceptable): Copyright Royalty Board, P.O. Box 70977, Washington, DC 20024-0977; or

Commercial courier: Address package to: Copyright Royalty Board, Library of Congress, James Madison Memorial Building, LM-403, 101 Independence Avenue SE., Washington, DC 20559-6000. Deliver to: Congressional Courier Acceptance Site, 2nd Street NE. and D Street NE., Washington, DC; or

Hand delivery: Library of Congress, James Madison Memorial Building, LM-401, 101 Independence Avenue SE., Washington, DC 20559-6000.

Electronic documents (including those submitted on CD together with paper copies) should conform to the Judges' Guidelines for Electronic Documents, available online at www.loc.gov/crb/docs/Guidelinesfor_Electronic_Documents.pdf.

Dated: December 9, 2014.
Suzanne Barnett,
Chief U.S. Copyright Royalty Judge.

[FR Doc. 2014-29795 Filed 12-19-14; 8:45 am]

BILLING CODE 1410-72-P